DEPARTMENT OF THE INTERIOR

Fish and Wildlife Service

Information Collection To Be Submitted to the Office of Management and Budget (OMB) for Renewal Approval Under the Paperwork Reduction Act (PRA)

ACTION: Information Collection Renewal.

SUMMARY: The U.S. Fish and Wildlife Service (Service) plans to submit the collection of information requirement described below to the Office of Management and Budget (OMB) for renewal approval under the provisions of the Paperwork Reduction Act (PRA). You may obtain copies of the collection requirement and related forms and explanatory material by contacting the Service's Information Collection Clearance Officer at the phone number listed below. The Service is soliciting comment and suggestions on the requirement as described below.

DATES: Interested parties must submit comments on or before June 30, 2000.

ADDRESSES: Interested parties should send comments and suggestions on the requirement to Rebecca A. Mullin, Information Collection Clearance Officer, U.S. Fish and Wildlife Service, 4401 North Fairfax Drive, Suite 222, Arlington, VA 22203, (703) 358-2278 or Rebecca _Mullin@fws.gov E-mail.

FOR FURTHER INFORMATION CONTACT: Jack Hicks, (703) 358-1851, fax (703) 358-1837, or Jack_Hicks@fws.gov E-mail.

SUPPLEMENTARY INFORMATION: Title of Forms: Part I Certification and Part II Summary of Hunting and Sport Fishing License Issue.

OMB Approval Number: 1018-0007 expires 8/31/2000. The Service may not conduct or sponsor, and a person is not required to respond to a collection of information unless it displays a currently valid OMB Control Number.

Description and Use: The Service administers grant programs authorized by the Federal Aid in Wildlife Restoration Act and the Federal Aid in Sport Fish Restoration Act. These Acts require that States certify annually their hunting and fishing license sales. The Service uses the information collected to determine apportionment and distribution of funds under these Acts. These forms were previously approved under the referenced OMB control number. This request is for renewal with minimal changes to the previously approved form.

Service Form Numbers: 3-154a (Part 1) and 3-154b (Part 2).

Supplementary Information: The service plans to submit the following information collection requirements to OMB for review and extension approval under the Paperwork Reduction Act of 1995, Public Law 104-13. Comments are invited on (1) whether the collection of information is necessary for the proper performance of the functions of the agency, including whether the information will have practical utility; (2) the accuracy of the agency's estimates of burden of the collection of information; (3) ways to enhance the quality, utility, and clarity of the information to be collected; and, (4) ways to minimize the burden of collection of information on respondents, including through the use of appropriate automated, electronic, mechanical, or other technological collection techniques or other forms of information technology.

Frequency: Annually.

Description of Respondents: States and the Commonwealth of Puerto Rico, the District of Columbia, the Commonwealth of the Northern Mariana Islands, Guam, the Virgin Islands, and American Samoa.

Completion Time and Annual Response Estimate:

Form name | Completion time per form | Annual response | Annual burden hours
Certification Part 1 | ½ Hour | 56 Forms | 28
Certification Part 2 | ½ Hour | 56 Forms | 28
Totals |  | 112 Forms | 56

Dated: April 25, 2000.
Jamie Rappaport Clark,
Director—U.S. Fish and Wildlife Service.

[FR Doc. 00-10830 Filed 4-25-00; 8:45 am]

BILLING CODE 4310-55-C